NUCLEAR REGULATORY COMMISSION

[Docket No. 72-8]

Calvert Cliffs Nuclear Power Plant; Notice of Docketing of the Materials License SNM-2505 Amendment Application for the Calvert Cliffs Independent Spent Fuel Storage Installation

By letter dated November 16, 2000, Calvert Cliffs Nuclear Power Plant (CCNPP) submitted an application to the Nuclear Regulatory Commission (NRC or the Commission) in accordance with 10 CFR Part 72 requesting an amendment of the Calvert Cliffs independent spent fuel storage installation (ISFSI) license (SNM-2505) for the ISFSI located in Calvert County, Maryland. CCNPP is seeking Commission approval to amend the materials license to reflect changes to License Conditions 9, 12, and 16. Changes to Conditions 9 and 12 involve eliminating references to certain documents. Changes to Condition 16 involve elimination of the helium leak test for the double-closure seal welds located at the bottom of the dry shielded canisters.

This application was docketed under 10 CFR part 72; the ISFSI Docket No. is 72-8 and will remain the same for this action. The amendment of an ISFSI license is subject to the Commission's approval.

The Commission may issue either a notice of hearing or a notice of proposed action and opportunity for hearing in accordance with 10 CFR 72.46(b)(1) or, if a determination is made that the amendment does not present a genuine issue as to whether public health and safety will be significantly affected, take immediate action on the amendment in accordance with 10 CFR 72.46(b)(2) and provide notice of the action taken and an opportunity for interested persons to request a hearing on whether the action should be rescinded or modified.

For further details with respect to this application, see the application dated November 16, 2000, which is available for public inspection at the Commission's Public Document Room, One White Flint North Building, 11555 Rockville Pike, Rockville, MD, or from the publically available records component of NRC's document system (ADAMS). ADAMS is accessible from the NRC Web Site at http://www.nrc.gov/nrc/adams/index.html (the Public Electronic Reading Room).

Dated at Rockville, Maryland, this 5th day of January 2001.
For the U.S. Nuclear Regulatory Commission.
E. William Brach,
Director, Spent Fuel Project Office, Office of Nuclear Material Safety and Safeguards.

[FR Doc. 01-1597 Filed 1-19-01; 8:45 am]

BILLING CODE 7590-01-P